JUDICIAL CONFERENCE OF THE UNITED STATES

Hearings of the Judicial Conference Advisory Committees on Rules of Bankruptcy, Civil, and Criminal Procedure, and the Rules of Evidence

AGENCY: Judicial Conference of the United States, Advisory Committees on Rules of Bankruptcy, Civil, and Criminal Procedure, and the Rules of Evidence.

ACTION: Notice of proposed amendments and open hearings.

SUMMARY: The Advisory Committees on Rules of Bankruptcy, Civil, and Criminal Procedure, and the Rules of Evidence have proposed amendments to the following rules:

Bankruptcy Rules: 1009, 2002, 4002, 5005, 7004, 9001, 9036, and Official Form 6.

Civil Rules: 16, 26, 33, 34, 37, 45, 50, and Form 35.

Admiralty Rules: A, C, E, and new Rule G.

Criminal Rules: 5, 32.1, 40, 41, and 58.

Evidence Rules: 404, 408, 606, and 609.

Notice of Proposed Amendments and Open Hearings

The text of the proposed rules amendments and the accompanying Committee Notes can be found at the United States Federal Courts' Home page at http://uscourts.gov/rules.

The Judicial Conference Committee on Rules of Practice and Procedure submits these proposed rules amendments for public comment. All comments and suggestions with respect to them must be placed in the hands of the Secretary as soon as convenient and, in any event, not later than February 15, 2005. All written comments on the proposed rule amendments can be sent by one of the following three ways: by overnight mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted on the proposed amendments are available to public inspection.

Public hearings are scheduled to be held on the amendments to:

• Bankruptcy Rules in Washington, DC, on February 3, 2005; and in San Francisco, California, on February 7, 2005; and

• Civil Rules in San Francisco, California, on January 12, 2005; in Dallas, Texas, on January 28, 2005; and in Washington, DC on February 11, 2005.

Notice of Proposed Amendments and Open Hearings

• Criminal Rules in Tampa, Florida, on January 21, 2005; and in Washington, DC, on February 4, 2005; and

• Evidence Rules in San Francisco, California, on January 15, 2005, and in New Haven, Connecticut, on January 27, 2005.

Those wishing to testify should contact the Secretary at the address above in writing at least 30 days before the hearing.

FOR FURTHER INFORMATION CONTACT: John K. Rabiej, Chief, Rules Committee Support Office, Administrative Office of the United States Courts, Washington, DC 20544, telephone (202) 502-1820.

Dated: September 3, 2004.
John K. Rabiej,
Chief, Rules Committee Support Office.

[FR Doc. 04-20575 Filed 9-10-04; 8:45 am]

BILLING CODE 2210-55-M